SMALL BUSINESS ADMINISTRATION

Reporting and Recordkeeping Requirements Under OMB review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before November 23, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: You may obtain a copy of the information collection and supporting documents from the Agency Clearance Officer.

SUPPLEMENTARY INFORMATION: “Secondary Market for Section 504 First Mortgage Loan Pool Program”.

Abstract: These forms captures the terms and conditions of the Small Business Administration's (SBA) Secondary Market for Section 504 First Mortgage Loan Pool Program. SBA needs this information collection in order to identify program participants, terms of financial transactions involving federal government guaranties, and reporting on program efficiency, including the proper use of Recovery Act funds.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Title: Secondary Market for Section 504 First Mortgage Loan Pool Program.

OMB Control Number: 3245-0367.

Description of Respondents: Secondary Market Loan Programs.

Estimated Annual Responses: 12,490.

Estimated Annual Hour Burden: 33.075.

Curtis Rich,
Management Analyst.

[FR Doc. 2020-23433 Filed 10-21-20; 8:45 am]

BILLING CODE 8026-03-P